DEPARTMENT OF VETERANS AFFAIRS

Privacy Act of 1974; System of Records

AGENCY: Department of Veterans Affairs.

ACTION: Notice of amendment and republication of an existing system of records.

SUMMARY: As required by the Privacy Act of 1974 5 U.S.C. 552a(e)4, notice is hereby given that the Department of Veterans Affairs (VA) is amending the system of records in its inventory entitled “Veterans (Deceased) Headstone or Marker Records—VA” (48VA40B) as set forth in Public Law 93-43. VA is amending the system of records by revising the Purpose, Routine Uses of Records Maintained in the System, Safeguards, Categories of Individuals Covered by the System and Notification Procedures. VA is republishing the system notice in its entirety.

DATES: Comments on this amended system of records must be received no later than November 22, 2010. If no public comment is received during the period allowed for comment or unless otherwise published in the Federal Register by VA, the amended system will become effective November 22, 2010.

ADDRESSES: Written comments concerning the proposed amended system of records may be submitted through http://www.Regulations.gov; by mail or hand-delivery to Director, Regulations Management (02REG), Department of Veterans Affairs, 810 Vermont Avenue, NW., Washington, DC 20420; by fax to (202) 273-9026. Comments received will be available for public inspection in the Office of Regulation Policy and Management, Room 1063B, between the hours of 8 a.m. and 4:30 p.m., Monday through Friday (except holidays). Please call (202) 461-4902 for an appointment, (this is not a toll free number). In addition, during the comment period, comments may be viewed online through the Federal Docket Management System (FDMS) at http://www.Regulations.gov.

FOR FURTHER INFORMATION CONTACT: Privacy Officer, National Cemetery Administration, Department of Veterans Affairs, 810 Vermont Avenue, NW., Washington, DC 20420, or fax comments to telephone (202) 273-6699.

SUPPLEMENTARY INFORMATION: This publication is in accordance with the Privacy Act requirement that agencies publish their amended system of records in the Federal Register when there is revision, change, or addition. VA's National Cemetery Administration (NCA) has reviewed its systems of records notices and has determined its record system, “Veterans (Deceased) Headstone or Marker Records— VA” (48VA40B) should be amended to reflect evolving technology and procedures and to conform to current practice.

This system of records is also amended by revising the Purpose section. The Purposes section more fully explains the mission of the VA NCA Interment Records system.

The Safeguards section is being amended to list specific standards that will be applied to protect sensitive personal information.

The Notification Procedures are amended to reflect any individual who wishes to access information within the system may submit a written request to the Privacy Officer.

Routine Use of Records Maintained in the System is being amended to reflect the Departmental requirement of adding seven routine uses to further clarify appropriate and necessary disclosures. Former routine use numbers 1, 3, and 4 remain the same.

Routine use number 1 remains the same and allows for use in connection with the issuance of a government headstone or marker in a National Cemetery or a private cemetery.

Routine use number 2 is revised to better allow the disclosure by VA, on its own initiative, any information in the system, except the names and home addresses of Veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, or order issued pursuant thereto.

Routine use number 3 remains the same and allows for disclosure to a foreign government allied with the U.S. during war, or a Federal, State or local agency maintaining civil, criminal or other pertinent information or military service data, if necessary to obtain information relevant to an agency decision concerning eligibility for burial or a reservation in a national cemetery or the issuance of a government headstone to mark a grave.

Routine use number 4 remains the same and allows disclosure to a Federal agency in response to its request in connection with the granting of a benefit to a veteran (including active duty personnel) or a dependent by the requesting agency, to the extent that the information is relevant and necessary to the requesting agency's decision on the matter.

Routine use number 5 is revised to better allow for disclosure to a Member of Congress, or a staff person acting for the Member, when the Member or staff person requests the record on behalf of and at the written request of the individual.

Routine use number 6 is revised to better allow disclosure to the National Archives and Records Administration in records management inspections conducted under authority of Title 44 U.S.C.

Routine use number 7 is added and allows VA to disclose records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

Routine use number 8 is added and allows for the disclosure of relevant information to individuals, organizations, private or public agencies, or other entities with whom VA has a contract or agreement or where there is a subcontract to perform such services VA may deem practicable for the purposes of laws administered by VA, in order for the contractor or subcontractor to perform the services of the contract or agreement.

Routine use number 9 is added and allows disclosure to other Federal agencies to assist such agencies in preventing and detecting possible fraud or abuse by individuals in their operations and programs.

Routine use number 10 is added to allow for the appropriate mitigation of a possible data breach. This routine use permits disclosures by including the conduct of any risk analysis or provision of credit protection services as provided in 38 U.S.C. 5724, as the terms are defined in 38 U.S.C. 5727.

The notice of amendment and an advance copy of the system notice have been sent to the appropriate Congressional committees and to the Director of Office of Management and Budget (OMB) as required by 5 U.S.C. 552a(r) (Privacy Act) and guidelines issued by OMB (65 FR 77677), December 12, 2000.

Approved: September 16, 2010.
John R. Gingrich,
Chief of Staff, Department of Veterans Affairs.

48VA40B

SYSTEM NAME:

“Veterans (Deceased) Headstone or Marker Records—VA”.

SYSTEM LOCATION:

Records are maintained at the Department of Veterans Affairs (VA) Central Office, Washington, DC.

CATEGORIES OF INDIVIDUALS COVERED BY THE SYSTEM:

Deceased Veterans and eligible family members.

CATEGORIES OF RECORDS IN THE SYSTEM:

The records in the system are the primary records and may contain the following types of information:

1. Military Service Data.

2. Applicant's name and address.

3. Place of burial.

4. Data on headstone or marker.

5. Consignee's name, address and phone number.

AUTHORITY FOR MAINTENANCE OF THE SYSTEM:

Public Law 93-43.

Purpose:

National Cemetery Administration (NCA) collects a limited amount of personally Identifiable information in order to provide authorized individual's access to or interact with the Department of Veterans Affairs. The system enables VA to maintain lists of individuals who receive a variety of Federal Veteran's Benefits administered by VA at VA facilities located throughout the country. VA gathers or creates these records in order to enable it to administer these statutory benefits programs.

ROUTINE USES OF RECORDS MAINTAINED IN THE SYSTEM, INCLUDING CATEGORIES OF USERS AND THE PURPOSES OF SUCH USES:

Information from this system also may be disclosed as a routine use for the following purposes:

1. For use in connection with the issuance of a government headstone or marker in a National Cemetery or a private cemetery.

2. VA on its own initiative may disclose any information in the system, except the names and home addresses of Veterans and their dependents, that is relevant to a suspected or reasonably imminent violation of the law whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of Veterans and their dependents to a Federal agency charged with the responsibility of investigating or prosecuting civil, criminal, or regulatory violations of law, or charged with enforcing or implementing the statute, regulation, or order issued pursuant thereto.

3. A record from this system of records may be disclosed as a “routine use” to a foreign government allied with the U.S. during war, or a Federal, State or local agency maintaining civil, criminal or other pertinent information or military service data, if necessary to obtain information relevant to an agency decision concerning eligibility for burial or a reservation in a national cemetery or the issuance of a government headstone to mark a grave.

4. A record from this system of records may be disclosed to a Federal agency, in response to its request, in connection with the granting of a benefit to a Veteran (including active duty personnel) or a dependent by the requesting agency, to the extent that the information is relevant and necessary to the requesting agency's decision on the matter.

5. The record of an individual who is covered by a system of records may be disclosed to a Member of congress, or a staff person acting for the Member, when the Member or staff person requests the record on behalf of and at the written request of the individual.

6. Disclosure may be made to the National Archives and Records Administration in records management inspections conducted under authority of Title 44 U.S.C.

7. VA may disclose records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

8. Disclosure of relevant information may be made to individuals, organizations, private or public agencies, or other entities with whom VA has a contract or agreement or where there is a subcontract to perform such services as VA may deem practicable for the purposes of laws administered by VA, in order for the contractor or subcontractor to perform the services of the contract or agreement.

9. Disclosure to other Federal agencies may be made to assist such agencies in preventing and detecting possible fraud or abuse by individuals in their operations and programs.

10. VA may, on its own initiative disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

POLICIES AND PRACTICES FOR STORING, RETRIEVING, ACCESSING, RETAINING, AND DISPOSING OF RECORDS IN THE SYSTEM:

STORAGE:

The information contained in the Veterans (Deceased) Headstone and Marker Records are maintained in paper documents and are stored at Veterans Administration Central Office.

RETRIEVABILITY:

Paper documents are indexed and retrievable by name of VA beneficiary or eligible family member.

SAFEGUARDS:

NCA will maintain the data in compliance with applicable VA security policy Directives that specify the standards that will be applied to protect sensitive personal information. Further, only authorized individuals may have access to the data and only when needed to perform their duties. They are required to take annual VA mandatory data privacy and security training.

RETENTION AND DISPOSAL:

Because the information is related to deceased veterans, the paper documents are retained indefinitely.

SYSTEM MANAGER(S) AND ADDRESS:

Director, National Cemetery Administration (41), Department of Veterans Affairs, 810 Vermont Ave., NW., Washington, DC 20420.

NOTIFICATION PROCEDURE:

Any individual who wishes to access information in order to determine whether a record is being maintained in this system under his or her name or other personal identifier, or wants to determine the content of such records should submit a written request to the Privacy Officer, National Cemetery Administration, Department of Veterans Affairs, 810 Vermont Avenue, NW., Washington, DC 20420. All inquiries must reasonably identify the type of records involved. Inquiries should include the individual's full name, branch of service, dates of service, service numbers, social security number, and date of birth.

RECORD ACCESS PROCEDURES:

See “Notification Procedures” above.

CONTESTING RECORD PROCEDURES:

See “Notification Procedures” above.

RECORD SOURCE CATEGORIES:

Include family members of the deceased, official military records and VA claims records.

[FR Doc. 2010-26490 Filed 10-20-10; 8:45 am]

BILLING CODE 8320-01-P